DEPARTMENT OF THE INTERIOR

National Park Service

[NPS-WASO-NRNHL-DTS#-26713; PPWOCRADI0, PCU00RP14.R50000]

National Register of Historic Places; Notification of Pending Nominations and Related Actions

AGENCY: National Park Service, Interior.

ACTION: Notice.

SUMMARY: The National Park Service is soliciting comments on the significance of properties nominated before October 6, 2018, for listing or related actions in the National Register of Historic Places.

DATES: Comments should be submitted by November 9, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 6, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Colbert County

Easterwood House, 200 Easterwood St., Cherokee, SG100003107

Dallas County

Water Avenue Historic District (Boundary Increase), Water Ave. bounded by Lauderdale, MLK Blvd., Beech Creek, Alabama R, Selma, BC100003108

ALASKA

Anchorage Borough

Greater Friendship Baptist Church, 903 E 13th Ave., Anchorage, SG100003109

NEW JERSEY

Passaic County

People's Bank and Trust Company Building, 663 Main Ave., Passaic, SG100003110

NEW YORK

Chenango County

Norwich Pharmacal Company Warehouse, 20 American Ave., Norwich, SG100003111

Erie County

Chandler Street Industrial Buildings (Black Rock Planning Neighborhood MPS), 27-63 Chandler St., Buffalo, MP100003112

North Park Branch Library, 2351 Delaware St., Buffalo, SG100003113

Greene County

Stevens Hill Farm, 4082 Grapeville Rd., Greenville, SG100003119

Jefferson County

Abingdon and New Abingdon Apartments, 327 Holcomb & 270-272 Mullin Sts., Watertown, SG100003114

Nassau County

Christ Church, 61 E Main St., Oyster Bay, SG100003115

New York County

First African Methodist Episcopal Church, 80 W 132nd St., New York, SG100003116

Queens County

First Reformed Church of College Point, 118-07, 118-09, 118-19 14th Ave., Queens, SG100003117

Rensselaer County

Valley Falls Historic District, State, Burton, Charles & Edward Sts., Valley Falls, SG100003118

Tompkins County

Methodist Episcopal Church of Jacksonville, 5020 Jacksonville Rd., Jacksonville, SG100003120

WISCONSIN

Sauk County

Marcus, Samuel and Nina, House, 241 E Jefferson St., Spring Green, SG100003121

Authority: Section 60.13 of 36 CFR part 60.

Dated: October 5, 2018.
Julie H. Ernstein,
Acting Chief, National Register of Historic Places/National Historic Landmarks Program and Deputy Keeper of the National Register of Historic Places.

[FR Doc. 2018-23310 Filed 10-24-18; 8:45 am]

BILLING CODE 4312-52-P